FEDERAL COMMUNICATIONS COMMISSION

[DA 04-3892]

Consumer Advisory Committee

AGENCY: Federal Communications Commission.

ACTION: Notice.

SUMMARY: This document announces the rechartering of the Consumer Advisory Committee, (hereinafter “the Committee”), whose purpose is to make recommendations to the Federal Communications Commission (“FCC” or “Commission”) regarding consumer issues within the jurisdiction of the Commission and to facilitate the participation of consumers (including people with disabilities and underserved populations, such as American Indians and persons living in rural areas) in proceedings before the Commission. The Commission also requests applications for membership on the Committee.

DATES: Applications should be received no later than January 31, 2005.

ADDRESSES: Federal Communications Commission, 445 12th Street, NW., Washington, DC 20554.

FOR FURTHER INFORMATION CONTACT: Scott Marshall, Consumer & Governmental Affairs Bureau, (202) 418-2809 (voice), (202) 418-0179 (TTY), or e-mail scott.marshal@fcc.gov.

SUPPLEMENTARY INFORMATION: On December 14, 2004, the Commission released a Public Notice, DA 04-3892 that announced the rechartering of the Consumer Advisory Committee and solicited applications for membership on the Committee.

Electronic Access and Filing

A copy of this notice also is available in alternate formats (Braille, cassette tape, large print or diskette) upon request. The notice also is posted on the Commission's Web site at www.fcc.gov/cgb/cac. Applications for membership on the Committee may be sent to the Commission via email addressed to Consumer & Governmental Affairs Bureau, Attn.: Scott Marshall, scott.marshall@fcc.gov or may be transmitted via facsimile to (202) 418-6509.

Background

The rechartering of the Committee was announced by Public Notice dated December 14, 2004. On November 19, 2004, the initial Charter of the Committee terminated. The Charter was renewed for another two (2) year term. This renewal is necessary and is in the public interest. The Committee is organized under and will operate in accordance with the provisions of the Federal Advisory Committee Act, 5 U.S.C. App. 2 (1988). The mission of the Committee is to make recommendations to the Commission regarding consumer issues within the jurisdiction of the Commission and to facilitate the participation of consumers (including people with disabilities and underserved populations, such as American Indians and persons living in rural areas) in proceedings before the Commission.

Each meeting of the full Committee will be open to the public. A notice of each meeting will be published in the Federal Register at least fifteen (15) days in advance of the meeting. Records will be maintained of each meeting and made available for public inspection.

Functions of the Committee

The topics to be addressed by the Committee will include, but are not limited to, the following areas:

• Consumer protection and education (e.g., cramming, slamming, consumer friendly billing, detariffing, bundling of services, Lifeline/Linkup programs, customer service, privacy, telemarketing abuses, and outreach to underserved populations, such as Native Americans and persons living in rural areas).

• Access by people with disabilities (e.g., telecommunications relay services, video description, closed captioning, accessible billing and access to telecommunications products and services).

• Impact upon consumers of new and emerging technologies (e.g., availability of broadband, digital television, cable, satellite, low power FM, and the convergence of these and emerging technologies).

• Implementation of Commission rules and consumer participation in the FCC rulemaking process.

During calendar year 2005, it is anticipated that the Committee will meet in Washington, DC, for three (3) one-day meetings. In addition, as needed, working groups or subcommittees will be established to facilitate the Committee's work between meetings of the full Committee. Meetings will be fully accessible to individuals with disabilities.

Membership

The Commission seeks applications from interested organizations or institutions, from both the public and private sectors, that wish to be considered for membership on the Committee. Selections will be made on the basis of factors such as expertise and diversity of viewpoints that are necessary to address effectively the questions before the Committee.

Applicants should be recognized experts in their fields, including, but not limited to, organizations focusing upon consumer advocacy, disabilities, underserved populations (e.g., persons living in rural areas and tribal communities), telecommunications infra-structure and equipment, telecommunications services (including wireless), and broadcast/cable services. Individuals who do not represent an organization or institution are also welcome to apply, but each individual should be aware that government ethics rules requiring financial and other disclosures may apply to such applicants.

The number of Committee members will be established to effectively accomplish the Committee's work. Members must be willing to commit to a two-year term of service, should be willing and able to attend three (3) one-day meetings per year in Washington, DC, and are also expected to participate in deliberations of at least one working group or subcommittee. The Commission is unable to pay per diem or travel costs.

Applications for Membership/Deadline

Applications should be received by the Commission no later than January 31, 2005, and should be sent to the Federal Communications Commission, Consumer & Governmental Affairs Bureau, Attn.: Scott Marshall, via e-mail to scott.marshall@fcc.gov or, via facsimile to (202) 418-6509.

Due to the extensive security screening of incoming mail since September 11, 2001, delivery of mail sent to the FCC may be delayed. Therefore, we ask that applications be submitted by email or fax. Applications will be acknowledged within five (5) business days of receipt, via a date stamped copy of the application mailed to the address of the primary representative specified in the application.

A specified application form is not required. However, applications should include the the following information:

(1) The name of the organization or institution applying for Committee membership (hereinafter the “applicant”); (2) the name of the applicant's including title, postal mailing address, email address, and telephone number; (3) The name of applicant's alternate representative including title, postal mailing address, email address, and telephone number; (4) A statement of the interests represented by the applicant and a detailed description of the applicant's knowledge and qualifications to serve on the Committee; (5) A statement by the applicant indicating a willingness to serve on the Committee for a two year period of time. (6) A commitment to attend three (3) one-day meetings per year in Washington, DC, at the applicant's own expense; and (7) A commitment to work on at least one working group or subcommittee. Members will have an initial and continuing obligation to disclose any interests in, or connections to, persons or entities that are, or will be, regulated by or have interests before the Commission.

After the applications have been reviewed, the Commission will publish a notice in the Federal Register announcing the appointment of the Committee members and the first meeting date of the Committee. All applicants will be notified via U.S. mail concerning the disposition of their applications. It is anticipated that appointments to the Committee will be made in March of 2005 with the first meeting of the Committee to occur in April of 2005.

Federal Communications Commission.
K. Dane Snowden,
Chief, Consumer & Governmental Affairs Bureau.

[FR Doc. 04-28529 Filed 12-28-04; 8:45 am]

BILLING CODE 6712-01-P